DEPARTMENT OF TRANSPORTATION

Federal Aviation Administration

14 CFR Part 39

[Docket No. FAA-2014-0425; Directorate Identifier 2013-NM-180-AD]

RIN 2120-AA64

Airworthiness Directives; Airbus Airplanes

AGENCY: Federal Aviation Administration (FAA), DOT.

ACTION: Notice of proposed rulemaking (NPRM).

SUMMARY: We propose to supersede Airworthiness Directive (AD) 2012-06-19, for certain Airbus Model A330-201, -202, -203, -223, -243, -301, -302, -303, -321, -322, -323, -341, -342, and -343 airplanes; and Model A340-200 and -300 series airplanes. AD 2012-06-19 currently requires repetitive inspections of the main fitting and sliding tube of the nose landing gear (NLG) for defects, damage, and cracks; and corrective actions if necessary. Since we issued AD 2012-06-19, we have determined that additional airplanes are affected by the identified unsafe condition. This proposed AD would add airplanes to the applicability. This proposed AD would require an inspection of the part number and serial number of the NLG main fitting and NLG sliding tube; for affected parts, a magnetic particle inspection (MPI) for cracks, and flap peening and replacement if necessary. This proposed AD would also require, for certain parts, additional inspections for damage and cracking. We are proposing this AD to detect and correct cracks, defects, or damage of the main fitting or sliding tube, which could result in consequent NLG collapse.

DATES: We must receive comments on this proposed AD by August 14, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0425; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; telephone (425) 227-1138; fax (425) 227-1149.

SUPPLEMENTARY INFORMATION:

Comments Invited

We invite you to send any written relevant data, views, or arguments about this proposed AD. Send your comments to an address listed under the ADDRESSES section. Include “Docket No. FAA-2014-0425; Directorate Identifier 2013-NM-180-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On March 15, 2012, we issued AD 2012-06-19, Amendment 39-17000 (77 FR 22188, April 13, 2012). AD 2012-06-19 requires actions intended to address an unsafe condition on certain Airbus Model A330-201, -202, -203, -223, -243, -301, -302, -303, -321, -322, -323, -341, -342, and -343 airplanes; and Model A340-200 and -300 series airplanes.

Since we issued AD 2012-06-19, Amendment 39-17000 (77 FR 22188, April 13, 2012), we have determined that additional airplanes are affected by the identified unsafe condition.

The European Aviation Safety Agency (EASA), which is the Technical Agent for the Member States of the European Community, has issued EASA Airworthiness Directive 2013-0179, dated August 7, 2013 (referred to after this as the Mandatory Continuing Airworthiness Information, or “the MCAI”), to correct an unsafe condition for certain Airbus Model A330-201, -202, -203, -223, -243, -301, -302, -303, -321, -322, -323, -341, -342, and -343 airplanes; and Model A340-200 and -300 series airplanes. The MCAI states:

During the overhaul of two different Nose Landing Gear (NLG) units, cracks were found on the main fitting of one and the sliding tube of the other. Investigations concluded that the cracks initiated as a result of residual stress in the parts, following damage due to impact during towing incidents.

A subsequent review of the reported incidents identified a specific group of NLG main fittings and sliding tubes that may have sustained impact damage as a result of towing incidents.

This condition, if not detected and corrected could lead to NLG collapse.

To address this potential unsafe condition, EASA issued AD 2010-0034 [(http://ad.easa.europa.eu/blob/easa_ad_2010_0034_Corrected_superseded.pdf/AD_2010-0034_1) [which corresponds to FAA AD 2012-06-19, Amendment 39-17000 (77 FR 22188, April 13, 2012)] to require accomplishment of a one-time Magnetic Particles Inspection (MPI), followed by repetitive Detailed Visual Inspections (DVI) of the main fittings and sliding tubes of the affected NLG units identified by Part Number (P/N) and Serial Number (S/N) in the Applicability section of that AD and, depending on findings, accomplishment of applicable corrective actions.

Since that [EASA] AD was issued, it has been found necessary to address the issue at the level of NLG detail parts and no longer at NLG assembly level, as some detail parts have been transferred from an aeroplane to another. Airbus revised the applicable Service Bulletins (SB), which now list the affected NLG main fittings and sliding tubes.

For the reasons described above, this [EASA] AD retains [certain] requirements of EASA AD 2010-0034 which is superseded and requires [an inspection of the part number and serial number of the NLG main fitting and NLG sliding tube, and for affected parts,] a one-time MPI [for cracks], followed by repetitive DVI [for cracking, damage to paint, sealant, cadmium, and base metal] of the affected NLG main fittings and sliding tubes and, depending on inspection results, accomplishment of corrective actions [e.g., flap peening and replacing cracked parts]. This AD also extends the applicability to A330 freighters.

You may examine the MCAI in the AD docket on the Internet at http://www.regulations.gov by searching for and locating Docket No. FAA-2014-0425.

Relevant Service Information

Airbus has issued Service Bulletin A330-32-3233, Revision 02, dated January 27, 2014; and Service Bulletin A340-32-4275, Revision 01, dated July 5, 2013. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

We estimate that this proposed AD affects 92 airplanes of U.S. registry.

We estimate the following costs to comply with this proposed AD:

The actions that are required by AD 2012-06-19, Amendment 39-17000 (77 FR 22188, April 13, 2012), and retained in this proposed AD take about 4 work-hours per product, at an average labor rate of $85 per work-hour. Required parts cost about $0 per product. Based on these figures, the estimated cost of the actions that are required by AD 2012-06-19 is $31,280 per product.

We also estimate that it would take about 10 work-hours per product to comply with the basic requirements of this proposed AD. The average labor rate is $85 per work-hour. Required parts would cost about $0 per product. Based on these figures, we estimate the cost of this proposed AD on U.S. operators to be $78,200, or $850 per product.

In addition, we estimate that any necessary follow-on actions would take about 114 work-hours and require parts costing $435,000, for a cost of $444,690 per product. We have no way of determining the number of aircraft that might need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This proposed regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2012-06-19, Amendment 39-17000 (77 FR 22188, April 13, 2012), and adding the following new AD:

Airbus: Docket No. FAA-2014-0425; Directorate Identifier 2013-NM-180-AD.

(a) Comments Due Date

We must receive comments by August 14, 2014.

(b) Affected ADs

This AD supersedes AD 2012-06-19, Amendment 39-17000 (77 FR 22188, April 13, 2012).

(c) Applicability

This AD applies to Airbus Model A330-201, -202, -203, -223, -223F -243, -243F, -301, -302, -303, -321, -322, -323, -341, -342, and -343 airplanes; and Model A340-211, -212, -213, -311, -312, and -313 airplanes; certificated in any category; all manufacturer serial numbers.

(d) Subject

Air Transport Association (ATA) of America Code 32, Landing Gear.

(e) Reason

This AD was prompted by reports of a cracked nose landing gear (NLG) main fitting and sliding tube during overhaul of the NLGs following damage due to impact during towing incidents. We are issuing this AD to detect and correct cracks, defects, or damage of the main fitting or sliding tube, which could result in consequent NLG collapse.

(f) Compliance

Comply with this AD within the compliance times specified, unless already done.

(g) Retained Detailed Inspection and Corrective Actions

This paragraph restates the requirements of paragraph (g) of AD 2012-06-19, Amendment 39-17000 (77 FR 22188, April 13, 2012) with revised service information. For Model A330-201, -202, -203, -223, -243, -301, -302, -303, -321, -322, -323, -341, -342, and -343 airplanes; and Model A340-211, -212, -213, -311, -312, and -313 airplanes; if fitted with the NLG identified in table 1 to paragraph (g) of this AD: Within 900 flight hours after April 30, 2012 (the effective date of AD 2012-06-19), do a detailed inspection of the NLG main fitting and sliding tube for any cracks, defects, and damage of the paint or surface protection, including paint removal and cracking of the surface treatment. Before further flight after doing the detailed inspection of the NLG, remove the labels, paint, surface protection coatings, and cadmium from the NLG main fitting; do a detailed inspection for any damage to the surface that will impair the magnetic particle inspection (MPI); and, if any defects are found, before further flight, remove any defects by polishing. Do all actions specified in paragraph (g) of this AD in accordance with the Accomplishment Instructions of the applicable service information specified in paragraph (g)(1) or (g)(2) of this AD.

(1) For Model A330 airplanes: Airbus Mandatory Service Bulletin A330-32-3233, dated October 22, 2009; or Airbus Service Bulletin A330-32-3233, Revision 02, dated January 27, 2014.

(2) For Model A340 airplanes: Airbus Mandatory Service Bulletin A340-32-4275, dated October 22, 2009; or Airbus Service Bulletin A340-32-4275, Revision 01, dated July 5, 2013.

Table 1 to Paragraph (g) of This AD—Applicable NLG and Serial Numbers
Part No. | Serial No.
D23285200 | B2
D23285101-7 | B58
D23285101-10 | B75
D23581100-1 | B124
D23581100-1 | B159
D23581100-7 | B386
D23581100-7 | B398
D23581100-7 | B400
D23581100-7 | B403

(h) Retained Magnetic Particle Inspection

This paragraph restates the requirements of paragraph (h) of AD 2012-06-19, Amendment 39-17000 (77 FR 22188, April 13, 2012), with revised service information. Before further flight after doing the actions required in paragraph (g) of this AD: Do an MPI for cracking of the NLG main fitting and sliding tube, in accordance with the Accomplishment Instructions of the applicable service information specified in paragraph (g)(1) or (g)(2) of this AD.

(1) If no crack is detected during the MPI required by paragraph (h) of this AD: Before further flight, flap peen the inspected area where the paint and cadmium has been removed, and replace the protective coatings, in accordance with the Accomplishment Instructions of the applicable service information specified in paragraph (g)(1) or (g)(2) of this AD.

(2) If any crack is detected during the MPI required by paragraph (h) of this AD: Before further flight, replace the damaged part with a new or serviceable part, in accordance with the Accomplishment Instructions of the applicable service information specified in paragraph (g)(1) or (g)(2) of this AD.

(i) New Requirement of This AD: Identification

Within 1,000 flight hours after the effective date of this AD, identify the part number and serial number of the NLG main fitting and NLG sliding tube, in accordance with the Accomplishment Instructions of Airbus Service Bulletin A330-32-3233, Revision 02, dated January 27, 2014; or Airbus Service Bulletin A340-32-4275, Revision 01, dated July 5, 2013; as applicable. A review of airplane maintenance records is acceptable in lieu of this identification if the part number and the serial number of the NLG main fitting and NLG sliding tube can be conclusively determined from that review.

(j) New Requirement of This AD: MPI

If, during the identification required by paragraph (i) of this AD, it is determined any NLG main fitting or NLG sliding tube is installed and the fitting or tube has a part number and serial number listed in Airbus Service Bulletin A330-32-3233, Revision 02, dated January 27, 2014; or Airbus Service Bulletin A340-32-4275, Revision 01, dated July 5, 2013; as applicable: Within 1,000 flight hours after the effective date of this AD, do an MPI for cracks of the affected parts, in accordance with the Accomplishment Instructions of Airbus Service Bulletin A330-32-3233, Revision 02, dated January 27, 2014; or Airbus Service Bulletin A340-32-4275, Revision 01, dated July 5, 2013; as applicable. Accomplishing the MPI required by this paragraph terminates the inspections required by paragraphs (g) and (h) of this AD.

(1) If any crack is detected during the MPI required by paragraph (j) of this AD, before further flight, replace any cracked part (NLG main fitting and NLG sliding tube) with a serviceable one, in accordance with the Accomplishment Instructions of Airbus Service Bulletin A330-32-3233, Revision 02, dated January 27, 2014; or Airbus Service Bulletin A340-32-4275, Revision 01, dated July 5, 2013; as applicable.

(2) If no crack is detected during the MPI required by paragraph (j) of this AD, before further flight, do a flap peening to introduce compressive residual stress and corrosion protection, in accordance with the Accomplishment Instructions of Airbus Service Bulletin A330-32-3233, Revision 02, dated January 27, 2014; or Airbus Service Bulletin A340-32-4275, Revision 01, dated July 5, 2013; as applicable.

(k) New Requirement of This AD: Detailed Inspection

Within 900 flight hours after doing the flap peening required by paragraph (j)(2) of this AD, do a detailed inspection for damage to paint, damage to the sealant around the labels, damage to the cadmium or base metal, and for cracking of the affected parts; in accordance with the Accomplishment Instructions of Airbus Service Bulletin A330-32-3233, Revision 02, dated January 27, 2014; or Airbus Service Bulletin A340-32-4275, Revision 01, dated July 5, 2013; as applicable. Repeat the inspection thereafter at intervals not to exceed 900 flight hours.

(1) If damage to the paint, damage to the sealant around the labels, or damage to the cadmium or base metal, is detected during any detailed inspection required by paragraph (k) of this AD, before further flight, do an MPI for cracking of the affected parts, in accordance with the Accomplishment Instructions of Airbus Service Bulletin A330-32-3233, Revision 02, dated January 27, 2014; or Airbus Service Bulletin A340-32-4275, Revision 01, dated July 5, 2013; as applicable.

(2) If any cracking is detected during any inspection required by paragraph (k) or (k)(1) of this AD, before further flight, replace any cracked part with a serviceable part, in accordance with the Accomplishment Instructions of Airbus Service Bulletin A330-32-3233, Revision 02, dated January 27, 2014; or Airbus Service Bulletin A340-32-4275, Revision 01, dated July 5, 2013; as applicable.

(l) Terminating Action

Replacement of a part as required by paragraph (j)(1) or (k)(2) of this AD is terminating action for the repetitive detailed inspections required by paragraph (k) of this AD for that part, provided that the part number and serial number of the replacement part is not listed in Airbus Service Bulletin A330-32-3233, Revision 02, dated January 27, 2014; or Airbus Service Bulletin A340-32-4275, Revision 01, dated July 5, 2013; as applicable.

(m) Parts Installation Limitation

As of the effective date of this AD, installation of an NLG main fitting or NLG sliding tube having a part number and serial number listed in Airbus Service Bulletin A330-32-3233, Revision 02, dated January 27, 2014; or Airbus Service Bulletin A340-32-4275, Revision 01, dated July 5, 2013; as applicable; is allowed, provided that the NLG main fitting and NLG sliding tube has not accumulated more than 900 flight hours since the most recent inspection accomplished in accordance with the Accomplishment Instructions of Airbus Service Bulletin A330-32-3233, Revision 02, dated January 27, 2014; or Airbus Service Bulletin A340-32-4275, Revision 01, dated July 5, 2013; as applicable.

(n) Credit for Previous Actions

This paragraph provides credit for inspections required by paragraphs (j) and (k) of this AD and the flap peening required by paragraph (j)(2) of this AD, if those actions were performed before the effective date of this AD using the service information specified in paragraph (n)(1), (n)(2), or (n)(3) of this AD.

(1) Airbus Service Bulletin A330-32-3233, dated October 22, 2009.

(2) Airbus Service Bulletin A330-32-3233, Revision 01, dated July 5, 2013.

(3) Airbus Service Bulletin A340-32-4275, dated October 22, 2009.

(o) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone (425) 227-1138; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer, use these actions if they are FAA-approved. Corrective actions are considered FAA-approved if they were approved by the State of Design Authority (or its delegated agent, or by the Design Approval Holder with a State of Design Authority's design organization approval, as applicable). You are required to ensure the product is airworthy before it is returned to service.

(p) Related Information

(1) Refer to Mandatory Continuing Airworthiness Information (MCAI) European Aviation Safety Agency Airworthiness Directive 2013-0179, dated August 7, 2013, for related information. This MCAI may be found in the AD docket on the Internet at http://www.regulations.gov by searching for and locating Docket No. FAA-2014-0425.

(2) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this service information at the FAA, Transport Airplane Directorate, 1601 Lind Avenue SW., Renton, WA. For information on the availability of this material at the FAA, call 425-227-1221.

Issued in Renton, Washington, on June 19, 2014.
Michael Kaszycki,
Acting Manager, Transport Airplane Directorate, Aircraft Certification Service.

[FR Doc. 2014-15254 Filed 6-27-14; 8:45 am]

BILLING CODE 4910-13-P